SMALL BUSINESS ADMINISTRATION

Reporting and Recordkeeping Requirements Under OMB Review

AGENCY: Small Business Administration.

ACTION: Notice of 30 day Reporting Requirements Submitted for OMB Review.

SUMMARY: Under the provisions of the Paperwork Reduction Act, agencies are required to submit proposed reporting and recordkeeping requirements to OMB for review and approval, and to publish a notice in the Federal Register notifying the public that the agency has made such a submission.

DATES: Submit comments on or before January 18, 2017. If you intend to comment but cannot prepare comments promptly, please advise the OMB Reviewer and the Agency Clearance Officer before the deadline.

ADDRESSES: Address all comments concerning this notice to: Agency Clearance Officer, Curtis Rich, Small Business Administration, 409 3rd Street SW., 5th Floor, Washington, DC 20416; and OMB Reviewer, Office of Information and Regulatory Affairs, Office of Management and Budget, New Executive Office Building, Washington, DC 20503.

FOR FURTHER INFORMATION CONTACT: Curtis Rich, Agency Clearance Officer, (202) 205-7030 curtis.rich@sba.gov.

SUPPLEMENTARY INFORMATION:

Copies: Request for clearance (OMB 83-1), supporting statement, and other documents submitted to OMB for review may be obtained from the Agency Clearance Officer.

Abstract: SBA Forms 2181, 2182 and 2183 provide SBA with the necessary information to make informed and proper decisions regarding the approval or denial of an applicant for a small business investment company (SBIC) license. SBA uses this information to assess an applicant's ability to successfully operate an SBIC with the scope of the Small Business Investment Act, as amended.

Title: SBIC License Application.

Frequency: On Occasion.

SBA Form Numbers: 2181, 2182, 2183.

Description of Respondents: Small Business Owners and Farmers.

Responses: 400.

Annual Burden: 7,370.

Authority: 44 U.S.C. Chapter 35.

Curtis Rich,
Management Analyst.

[FR Doc. 2016-30370 Filed 12-16-16; 8:45 am]

BILLING CODE P